DEPARTMENT OF ENERGY

Federal Energy Regulatory Commission

[Docket No. CP19-517-000]

Gulf South Pipeline Company, LP; Notice of Schedule for Environmental Review of the Lamar County Expansion Project

On September 30, 2019, Gulf South Pipeline Company, LP (Gulf South) filed an application in Docket No. CP19-517-000 requesting a Certificate of Public Convenience and Necessity pursuant to Section 7(c) of the Natural Gas Act to construct and operate certain natural gas pipeline facilities. The proposed project is known as the Lamar County Expansion Project (Project) and would provide about 200,000 dekatherms of natural gas per day to Cooperative Energy's generation facility in Lamar County, Mississippi.

On October 15, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—February 18, 2020.

90-day Federal Authorization Decision Deadline—May 18, 2020.

If a schedule change becomes necessary, additional notice will be provided so that the relevant agencies are kept informed of the Project's progress.

Project Description

Gulf South proposes to construct and operate 3.4 miles of 20-inch-diameter pipeline, a new delivery meter station, and a new 5,000 horsepower compressor station in Lamar and Forrest Counties, Mississippi. The Project would allow Gulf South to provide up to 200,000 dekatherms per day of new natural gas firm transportation service from Gulf South's existing Index 299 pipeline to Cooperative Energy. This service would be primarily utilized for Cooperative Energy's new 550-megawatt combined cycle gas turbine generation facility. According to Gulf South, the Project would allow Cooperative Energy's power plant to switch from coal to natural gas as a power source.

Background

On November 4, 2019, the Commission issued a Notice of Intent to Prepare an Environmental Assessment for the Proposed Lamar County Expansion Project and Request for Comments on Environmental Issues (NOI). The NOI was sent to affected landowners; federal, state, and local government agencies; elected officials; environmental and public interest groups; Native American tribes; other interested parties; and local libraries and newspapers. All substantive comments will be addressed in the EA. No comments have been received at this time.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-517), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 22, 2019.
Nathaniel J. Davis, Sr.,
Deputy Secretary.

[FR Doc. 2019-25914 Filed 11-27-19; 8:45 am]

BILLING CODE 6717-01-P